DEPARTMENT OF HOMELAND SECURITY

U.S. Customs and Border Protection

[Docket No. USCBP-2022-0022]

Commercial Customs Operations Advisory Committee (COAC)

AGENCY: U.S. Customs and Border Protection (CBP), Department of Homeland Security (DHS).

ACTION: Committee Management; notice of Federal Advisory Committee meeting.

SUMMARY: The Commercial Customs Operations Advisory Committee (COAC) will hold its quarterly meeting on Wednesday, June 29, 2022. The meeting will be open to the public via webinar only. There is no on-site, in-person option for the public to attend this quarterly meeting.

DATES: The COAC will meet on Wednesday, June 29, 2022, from 1 p.m. to 5 p.m. EDT. Please note that the meeting may close early if the committee has completed its business. Comments must be submitted in writing no later than June 24, 2022.

ADDRESSES: The meeting will be open to the public via webinar. The webinar link and conference number will be provided to all registrants by 9 a.m. EDT on June 29, 2022. For information or to request special assistance for the meeting, contact Ms. Latoria Martin, Office of Trade Relations, U.S. Customs and Border Protection, at (202) 344-1440 as soon as possible. Submit electronic comments and supporting data to www.regulations.gov or by email at tradeevents@cbp.dhs.gov. See SUPPLEMENTARY INFORMATION for file formats and other information about electronic filing.

FOR FURTHER INFORMATION CONTACT: Ms. Latoria Martin, Office of Trade Relations, U.S. Customs and Border Protection, 1300 Pennsylvania Avenue NW, Room 3.5A, Washington, DC 20229, (202) 344-1440; or Ms. Valarie M. Neuhart, Designated Federal Officer, at (202) 344-1440.

SUPPLEMENTARY INFORMATION: Notice of this meeting is given under the authority of the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Pre-registration: For members of the public who plan to participate in the webinar, please register online at https://teregistration.cbp.gov/index.asp?w=265 by 5:00 p.m. EDT on June 28, 2022. For members of the public who are pre-registered to attend the meeting via webinar and later need to cancel, please do so by 5:00 p.m. EDT June 28, 2022, utilizing the following link: https://teregistration.cbp.gov/cancel.asp?w=265. The COAC is committed to ensuring all participants have equal access regardless of disability status. If you require a reasonable accommodation due to a disability to fully participate, please contact Ms. Latoria Martin at (202) 344-1440 as soon as possible.

Please feel free to share this information with other interested members of your organization or association.

To facilitate public participation, we are inviting public comment on the issues the committee will consider prior to the formulation of recommendations as listed in the Agenda section below.

Comments must be submitted in writing no later than June 24, 2022 and must be identified by Docket No. USCBP-2022-0022. Comments may be submitted by one (1) of the following methods:

• Federal eRulemaking Portal: https://www.regulations.gov and search for Docket Number USCBP-2022-0022. To submit a comment, click the “Comment!” button located on the top-right hand side of the docket page.

• Email: tradeevents@cbp.dhs.gov. Include the docket number in the subject line of the message.

• Docket Instructions: All submissions received must include the words “Department of Homeland Security” and the docket number for this action.

All comments received will be posted without change to https://www.cbp.gov/trade/stakeholder-engagement/coac/coac-public-meetings and www.regulations.gov, so please refrain from including any personal information you do not wish to be posted. You may wish to view the Privacy and Security Notice which is available via a link on the homepage of www.regulations.gov.

There will be multiple public comment periods held during the meeting on June 29, 2022. Speakers are requested to limit their comments to 2 minutes or less to facilitate greater participation. Please note that the public comment period for speakers may end before the time indicated on the schedule that is posted on the CBP web page: https://www.cbp.gov/trade/stakeholder-engagement/coac.

Agenda

The COAC will hear from the current subcommittees on the topics listed below:

1. The Intelligent Enforcement Subcommittee will provide updates on the work completed and topics discussed for its working groups. The Antidumping/Countervailing Duty (AD/CVD) Working Group will provide updates regarding its work and discussions on importer compliance with AD/CVD requirements. The Intellectual Property Rights Process Modernization Working Group will provide updates regarding development of an electronic notice of detention and enhanced procedures for manipulation of shipments, in addition to other practical proposals for enhancing communication concerning intellectual property rights issues between the trade, the rights holders, and CBP. The Bond Working Group's updates will include the status of proposed revisions to Directive 3510-004, “Monetary Guidelines for Setting Bond Amounts,” and the testing of electronic delivery of CBP Form 5955a Notice of Penalty or Liquidated Damages Incurred and Demand for Payment. The Forced Labor Working Group will submit recommendations for the committee's consideration regarding the Uyghur Forced Labor Prevention Act (UFLPA) implementation as well as the UFLPA Importer Guidelines.

2. The Next Generation Facilitation Subcommittee will provide updates on its task forces and working groups, including an update on the progress of the 21st Century Customs Framework (21CCF) and E-Commerce Task Forces, and it is expected there will be recommendations for the committee's consideration in both areas. The Automated Commercial Environment (ACE) 2.0 Working Group will present recommendations for the committee's consideration stemming from the in-depth gap analysis of areas that may be improved when CBP embarks on ACE 2.0 modernization. Finally, the One U.S. Government Working Group will provide an update on the work planned for upcoming quarters of the 16th Term of the COAC.

3. The Rapid Response Subcommittee will provide updates for the Domestic Manufacturing and Production (DMAP) Working Group and the Broker Modernization Working Group. CBP formed the DMAP Working Group to collaborate and obtain input from industry stakeholders on trade enforcement areas impacting domestic manufacturers and producers. While this is a new group, the expectation is that recommendations will be developed and submitted for consideration at an upcoming COAC public meeting. The topics for discussion for the Broker Modernization Working Group will include the April 2022 broker exam, potential regulatory updates to 19 CFR part 111, and requiring continuing education for licensed customs brokers.

4. The Secure Trade Lanes Subcommittee will provide updates on the progress and plans for the In-Bond Working Group and the Remote and Autonomous Cargo Processing Working Group. The Partnership Programs and Industry Engagement Working Group (formerly Trusted Trader Working Group) topics of discussion will include the inclusion of forced labor into the Customs Trade Partnership Against Terrorism (CTPAT) program, as well as the proposed requirements CTPAT members must meet to mitigate the risk of forced labor in their supply chains. The Export Modernization Working Group will provide updates regarding the development of policies for industry and government partners regarding data collection and sharing in all modes for exportation of goods out of the United States.

Meeting materials will be available by June 17, 2022, at: https://www.cbp.gov/trade/stakeholder-engagement/coac/coac-public-meetings.

Dated: June 7, 2022.
Valarie M. Neuhart,
Acting Executive Director, Office of Trade Relations.

[FR Doc. 2022-12560 Filed 6-9-22; 8:45 am]

BILLING CODE 9111-14-P